ENVIRONMENTAL PROTECTION AGENCY

40 CFR Part 300

[EPA-HQ-SFUND-1993-0003; FRL-9920-05-OSWER]

National Oil and Hazardous Substances Pollution Contingency Plan; Proposed Rule; Withdrawal

AGENCY: Environmental Protection Agency.

ACTION: Proposed rule; withdrawal.

SUMMARY: The Environmental Protection Agency (EPA) is withdrawing its May 10, 1993 proposal to add the ASARCO, Inc. (Globe Plant) site in Denver, Colorado to the Superfund National Priorities List (NPL) because the site is being deferred to the State of Colorado. The majority of the cleanup work at this site has been completed under state oversight. An enforceable agreement is in place to complete the cleanup and maintain the remedy, which will be protective of human health and the environment.

DATES: The proposed rule to add the ASARCO Inc. (Globe Plant) site to the NPL published at 58 FR 27507 (May 10, 1993) is withdrawn effective December 11, 2014.

FOR FURTHER INFORMATION CONTACT: Terry Jeng, phone: (703) 603-8852, email: jeng.terry@epa.gov, Site Assessment and Remedy Decisions Branch, Assessment and Remediation Division, Office of Superfund Remediation and Technology Innovation (Mailcode 5204P), U.S. Environmental Protection Agency, 1200 Pennsylvania Avenue NW., Washington, DC 20460.

SUPPLEMENTARY INFORMATION: The ASARCO, Inc. (Globe Plant) site was proposed for addition to the NPL on May 10, 1993. Since that time the State of Colorado has been overseeing the remediation of the site under a Consent Decree with ASARCO, Inc. The remedy is nearing completion and redevelopment of the site, which will support long-term maintenance of the remedy, is imminent. Therefore, consistent with the EPA's November 2002 policy “Guidelines for Withdrawing a Proposal to List a Site on the NPL (De-proposal)” http://www.epa.gov/superfund/sites/npl/hrsres/policy/dprop.pdf the ASARCO, Inc. (Globe Plant) site's 1993 proposal to list is being withdrawn.

Please refer to Docket ID Number EPA-HQ-SFUND-1993-0003 for supporting documentation regarding this action.

The following outlines the basis for this withdrawal:

1. There are no further Fund-financed response actions necessary at this site. This site has been deferred to the State of Colorado. Completion of the remedy and long-term maintenance is being conducted under a State of Colorado Consent Decree.

2. EPA Region 8 conducted a reassessment of the site to evaluate current conditions. The site reassessment report, approved on July 2, 2014, found that the site no longer poses a significant threat to public health or the environment.

3. Future land use has been restricted through an environmental covenant so that no residential development can occur.

4. The planned redevelopment of the site into an industrial park will provide additional protections to public health and the environment by ensuring the long-term maintenance of the remedy.

List of Subjects in 40 CFR Part 300

Environmental protection, Air pollution control, Chemicals, Hazardous substances, Hazardous waste, Intergovernmental relations, Natural resources, Oil pollution, Penalties, Reporting and recordkeeping requirements, Superfund, Water pollution control, Water supply.

Authority: 33 U.S.C. 1321(c)(2); 42 U.S.C. 9601-9657; E.O. 12777, 56 FR 54757, 3 CFR, 1991 Comp., p. 351; E.O. 12580, 52 FR 2923, 3 CFR, 1987 Comp., p. 193.

Dated: December 3, 2014.
Mathy Stanislaus,
Assistant Administrator, Office of Solid Waste and Emergency Response.

[FR Doc. 2014-28978 Filed 12-10-14; 8:45 am]

BILLING CODE 6560-50-P